ENVIRONMENTAL PROTECTION AGENCY

[FRL-8295-9]

Draft Operator Training Grant Guidelines for States; Solid Waste Disposal Act, Subtitle I, as Amended by Title XV, Subtitle B of the Energy Policy Act of 2005

AGENCY: Environmental Protection Agency.

ACTION: Notice of availability.

SUMMARY: By this notice, the Environmental Protection Agency (EPA), Office of Underground Storage Tanks (OUST) is advising the public that EPA is issuing for public comment draft operator training grant guidelines for states. In this notice, EPA is publishing the draft operator training grant guidelines in their entirety. In addition, EPA will subsequently post the draft on EPA's Web site. EPA will accept public comments on the draft guidelines submitted by May 10, 2007. Because EPA does not consider this a notice and comment rulemaking under the Administrative Procedure Act based on the exemption for grant documents (5 U.S.C. 553(a)(2)), EPA will consider but not respond to comments and will not establish a rulemaking docket. EPA developed the draft operator training grant guidelines as required by Section 9010 of Subtitle I of the Solid Waste Disposal Act, as amended by Section 1524 of the Energy Policy Act of 2005.

DATES: EPA is notifying the public via this notice that the draft operator training grant guidelines are available for public comments as of April 10, 2007 and EPA will accept comments submitted by May 10, 2007.

ADDRESSES: Submit your comments by one of the following methods:

1. E-mail: OUST_Operator_Training@epa.gov.

2. Facsimile: 703-603-0175.

3. Overnight, hand delivery, or courier: OUST Operator Training, c/o Tim R. Smith, U.S. Environmental Protection Agency, 2733 South Crystal Drive, Two Potomac Yard (North Building), Room N-4354, Arlington, VA 22202 (phone 703-603-7158).

4. U.S. Postal Service mail: OUST Operator Training, c/o Tim R. Smith, U.S. Environmental Protection Agency, 1200 Pennsylvania Avenue, NW., Mail Code 5401P, Washington, DC 20460.

In addition to publishing the draft operator training grant guidelines here, EPA will post the draft guidelines on EPA's Web site at: http://www.epa.gov/oust/fedlaws/epact_05.htm#Draft. You may also obtain paper copies from the National Service Center for Environmental Publications (NSCEP), EPA's publications distribution warehouse, by calling 1-800-490-9198; writing to U.S. EPA/NSCEP, Box 42419, Cincinnati, OH 45242-0419; or faxing your request to NSCEP at 301-604-3408. Ask for: Grant Guidelines To States For Implementing The Operator Training Provision Of The Energy Policy Act Of 2005 (EPA-510-D-07-002).

FOR FURTHER INFORMATION CONTACT: Tim R. Smith, EPA's Office of Underground Storage Tanks, at smith.timr@epa.gov or (703) 603-7158.

SUPPLEMENTARY INFORMATION: On August 8, 2005, President Bush signed the Energy Policy Act of 2005. Title XV, Subtitle B of this act, entitled the Underground Storage Tank Compliance Act of 2005, contains amendments to Subtitle I of the Solid Waste Disposal Act. This is the first federal legislative change for the underground storage tank (UST) program since its inception over 20 years ago. The UST provisions of the law significantly affect federal and state UST programs, require major changes to the programs, and are aimed at further reducing UST releases to our environment. Among other things, the UST provisions of the Energy Policy Act require that states receiving funding under Subtitle I comply with certain requirements contained in the law. OUST worked, and is continuing to work, with its partners to develop grant guidelines that EPA regional tank programs will incorporate into states' grant agreements. The guidelines will provide states that receive UST funds with specific requirements, based on the UST provisions of the Energy Policy Act, for their state UST programs.

Sections 9010(a) and (b) of Subtitle I of the Solid Waste Disposal Act, as amended by Section 1524 of the Energy Policy Act, require EPA to publish guidelines that establish training requirements for three distinct classes of UST system operators and require states to develop state-specific training requirements consistent with the guidelines. As a result of that requirement, EPA worked with states and other UST stakeholders to develop the draft operator training grant guidelines. EPA is seeking public comments on the draft guidelines and will accept comments submitted by May 10, 2007. After considering the comments, EPA anticipates issuing final operator training grant guidelines in summer 2007, which EPA will then incorporate into grant agreements between EPA and states. States receiving funds from EPA for their UST programs must comply with the UST provisions of the Energy Policy Act and will be subject to action by EPA under 40 CFR 31.43 if they fail to comply with the guidelines.

Statutory and Executive Order Reviews: Under Executive Order 12866 (58 FR 51735, October 4, 1993), this action is not a “significant regulatory action” and is therefore not subject to OMB review. Because this grant action is not subject to notice and comment requirements under the Administrative Procedure Act or any other statute, it is not subject to the Regulatory Flexibility Act (5 U.S.C. 601 et seq.) or Sections 202 and 205 of the Unfunded Mandates Reform Act of 1999 (UMRA) (Pub. L. 104-4). In addition, this action does not significantly or uniquely affect small governments. Although this action does create new binding legal requirements, such requirements do not substantially and directly affect tribes under Executive Order 13175 (63 FR 67249, November 9, 2000). Although this grant action does not have significant federalism implications under Executive Order 13132 (64 FR 43255, August 10, 1999), EPA consulted with states in the development of these grant guidelines. This action is not subject to Executive Order 13211, “Actions Concerning Regulations that Significantly Affect Energy Supply, Distribution, or Use” (66 FR 28355, May 22, 2001), because it is not a significant regulatory action under Executive Order 12866. This action does not involve technical standards; thus, the requirements of Section 12(d) of the National Technology Transfer and Advancement Act of 1995 (15 U.S.C. 272 note) do not apply. This action does not impose an information collection burden under the provisions of the Paperwork Reduction Act of 1995 (44 U.S.C. 3501 et seq.).

Draft for Public Comment Only—April 10, 2007 Grant Guidelines to States for Implementing the Operator Training Provision of the Energy Policy Act of 2005

U.S. Environmental Protection Agency; Office of Underground Storage Tanks

Contents

Overview of Operator Training Grant Guidelines

Why is EPA Issuing These Guidelines?

What is in These Guidelines?

When do These Guidelines Take Effect?

Operator Training Requirements

What Is Operator Training?

What Underground Storage Tank Systems do These Guidelines Apply to?

How Does a State Implement These Guidelines?

Who is Subject to Operator Training Requirements and What Are the Requirements?

When Must Operators be Trained?

What Training Approaches Would Meet the Operator Training Requirements?

What Enforcement Authority Must States Have for Operator Training?

How Will States Demonstrate Compliance With These Guidelines?

How Will EPA Enforce State's Compliance With the Requirements in These Guidelines?

For More Information About The Operator Training Grant Guidelines

Background About the Energy Policy Act of 2005

Appendix A: The Three Operator Classes at a Glance

Overview of Operator Training Grant Guidelines

Why is EPA Issuing These Guidelines?

The U.S. Environmental Protection Agency (EPA), in consultation with states, developed these grant guidelines to implement the operator training provision in Section 9010(a)(1) of the Solid Waste Disposal Act (SWDA), enacted by the Underground Storage Tank Compliance Act, part of the Energy Policy Act of 2005 signed by President Bush on August 8, 2005.

Section 1524 of the Energy Policy Act amends Subtitle I of the Solid Waste Disposal Act by adding section 9010. Section 9010 requires EPA to publish guidelines that specify training requirements for three classes of operators:

• Persons having primary responsibility for on-site operation and maintenance of underground storage tank systems.

• Persons having daily on-site responsibility for the operation and maintenance of underground storage tank systems.

• Daily, on-site employees having primary responsibility for addressing emergencies presented by a spill or release from an underground storage tank system.

Section 9010(a)(2) requires EPA to consider:

• State training programs in existence when the guidelines are published.

• Training programs that are being used by tank owners and operators as of August 8, 2005.

• The high turnover rate of tank operators and other personnel.

• The frequency of improvement in underground storage tank equipment technology.

• The business in which tank operators are engaged.

• The substantial differences in the scope and length of training needed for the three classes of operators.

• Such other factors as EPA finds necessary to carry out section 9010.

Section 9010(b)(2) also requires each state receiving Subtitle I funding (hereafter referred to as “state”), to develop state-specific training requirements that:

• Are consistent with EPA's guidelines.

• Are developed in cooperation with tank owners and operators.

• Consider training programs implemented by tank owners and operators as of the date of enactment of state-specific operator training guidelines.

• Are appropriately communicated to tank owners and operators.

In addition, section 9010(c) requires that all persons who are subject to the operator training requirements specified in these guidelines must:

• Meet the state-specific training requirements.

• Repeat the state-specific training requirements if the tank for which they have primary daily on-site management responsibilities is determined to be out of compliance with a requirement or standard of 40 CFR part 280 or a requirement or standard of a state program approved under section 9004.

EPA's Office of Underground Storage Tanks (OUST) is issuing these grant guidelines to establish the minimum requirements a state receiving Subtitle I funding must meet in order to comply with the operator training provisions of the Energy Policy Act.

What is in These Guidelines?

These guidelines describe the minimum requirements a state's underground storage tank (UST) program must contain in order for a state to comply with the section 9010 requirements for Subtitle I funding. These guidelines include: a description of the classes of operators; required training for each class of operator; deadlines when operator training is required; and examples of acceptable state approaches to operator training.

When do These Guidelines Take Effect?

These guidelines are effective August 8, 2007.

Operator Training Requirements

What Is Operator Training?

Underground storage tank operator training means any program that meets the requirements of these guidelines. Such a program is designed to ensure knowledge regarding operating and maintaining underground storage tank systems.

What Underground Storage Tank Systems do These Guidelines Apply to?

These guidelines apply to underground storage tank systems regulated under Subtitle I, except those excluded by regulation at 40 CFR 280.10(b) and those deferred by regulation at 40 CFR 280.10(c).

How Does a State Implement These Guidelines?

A state implements these guidelines by:

• Exercising the authority to require operator training for all operators in each class;

• Developing state-specific operator training requirements consistent with EPA's guidelines within two years of EPA publishing these guidelines in the Federal Register. State-specific operator training requirements must:

• Be developed in cooperation with tank owners and operators;

• Take into consideration training programs implemented by tank owners and tank operators as of August 8, 2005; and

• Be appropriately communicated to tank owners and operators.

• Establishing a procedure to identify persons who are required to be trained under the operator training requirements specified in these guidelines; and

• Ensuring all operators are trained in accordance with these guidelines.

States may choose to be more stringent than these minimum requirements.

Who is Subject to Operator Training Requirements and What Are the Requirements?

Three classes of operators (i.e., individuals) must be trained. These individuals are:

• Class A operator—Individuals having primary responsibility for on-site operation and maintenance of underground storage tank systems.

• Class B operator—Individuals having daily on-site responsibility for the operation and maintenance of underground storage tank systems.

• Class C operator—Daily on-site employees having primary responsibility for addressing emergencies presented by a spill or release from an underground storage tank system.

States must establish a procedure to identify individuals who are required to meet the operator training requirements specified in these guidelines. For example, a state may accomplish this by requiring that underground storage tank system owners or operators identify, for each underground storage tank system, at least one name for each class of operator outlined in these guidelines.

In accordance with the state's procedure to identify persons who are required to be trained, each underground storage tank system must have a Class A, Class B, and Class C operator designated. Individuals designated as a Class A, B, or C operator must, at a minimum, be trained according to these guidelines. Separate individuals may be designated for each class of operator described above or an individual may be designated to more than one of the above operator classes. An individual who is designated to more than one operator class must be trained in each operator class for which he or she is designated. Class A, Class B, and Class C operators may or may not be the owner or operator defined by 40 CFR 280.12.

These guidelines in no way relieve the owner or operator, as defined in 40 CFR part 280, from any legal responsibility mandated by the federal underground storage tank regulations or requirements of a state underground storage tank program approved by EPA under SWDA section 9004.

The following sections of these guidelines characterize, in general terms, each class of operator to further identify responsible individuals to be trained pursuant to these guidelines. These sections also identify general training requirements pertaining to operating and maintaining underground storage tank systems. Operators might perform the operation or maintenance task or direct or monitor the required activity performed by support or contract personnel. See Appendix A (The Three Operator Classes At A Glance) which describes who fits in each operator class and the training requirements. States must further specify training for each individual class of operator by developing state-specific training requirements.

Class A Operator

Typically, a Class A operator will have primary responsibility to operate and maintain the underground storage tank system. This individual manages resources and personnel, such as establishing work assignments, to achieve and maintain compliance with regulatory requirements.

In general, this individual focuses on the broader aspects of the statutory and regulatory requirements (i.e., 40 CFR part 280 or requirements of a state underground storage tank program approved by EPA under SWDA section 9004) necessary to operate and maintain the underground storage tank system. For example, this individual typically ensures that appropriate individual(s):

• Properly operate and maintain the underground storage tank system.

• Maintain appropriate records.

• Are trained to: Operate and maintain the UST system, and keep records.

• Properly respond to emergencies caused by releases or spills from underground storage tank systems at the facility.

• Make financial responsibility documents available to the underground storage tank implementing agency as required.

At a minimum, the Class A operator must be trained in the following:

• A general knowledge of both tank and piping requirements so he or she can make informed decisions regarding compliance and ensure appropriate individuals are fulfilling operation, maintenance, and recordkeeping requirements of 40 CFR part 280 or requirements of a state underground storage tank program approved by EPA under SWDA section 9004 regarding:

• Spill prevention.

• Overfill prevention.

• Release detection.

• Corrosion protection.

• Emergency response.

• Product compatibility.

• Financial responsibility documentation requirements.

• Notification requirements.

• Release and suspected release reporting.

• Temporary and permanent closure requirements.

• Operator training requirements.

Class B Operator

Generally, a Class B operator implements applicable underground storage tank regulatory requirements (i.e., 40 CFR part 280 or requirements of a state underground storage tank program approved by EPA under SWDA section 9004) in the field. This individual focuses on day-to-day aspects of operating, maintaining, and recordkeeping at the locations he or she is responsible for. For example, this individual typically monitors, maintains, and ensures:

• Release detection method performance, recordkeeping, and reporting requirements are met.

• Release prevention equipment, recordkeeping, and reporting requirements are met.

• All relevant equipment complies with performance standards.

• Appropriate individuals are trained to properly respond to emergencies caused by releases or spills from underground storage tank systems at the facility.

Compared with training for the Class A operator, training for the Class B operator will provide a more in-depth understanding of operation and maintenance aspects, but may cover a narrower breadth of applicable regulatory requirements.

States may require either site-specific operator training, which is focused only on equipment used at the underground storage tank facility, or training regarding regulatory requirements that, at a minimum, encompass the following:

• Components of underground storage tank systems.

• Materials of underground storage tank system components.

• Methods of release detection and release prevention applied to underground storage tank components.

• Operation and maintenance requirements of 40 CFR part 280 or requirements of a state underground storage tank program approved by EPA under SWDA section 9004 that apply to underground storage tank systems and include:

• Spill prevention.

• Overfill prevention.

• Release detection.

• Corrosion protection.

• Emergency response.

• Product compatibility.

• Reporting and recordkeeping requirements.

• Class C operator training requirements.

Class C Operator

A Class C operator is an employee and is, generally, the first line of response to events indicating emergency conditions. This individual is responsible for responding to alarms or other indications of emergencies caused by spills or releases from underground storage tank systems. This individual notifies the Class B or Class A operator and appropriate emergency responders when necessary. Not all employees of the facility are necessarily Class C operators. This individual typically:

• Controls or monitors the dispensing or sale of regulated substances, or

• Is responsible for initial response to alarms or releases.

At a minimum, the Class C operator must be trained to:

• Take action in response to emergencies (such as, situations posing an immediate danger or threat to the public or to the environment and that require immediate action) or alarms caused by spills or releases from an underground storage tank system.

When Must Operators Be Trained?

States must ensure that Class A, Class B, and Class C operators are trained according to state-specific training requirements by August 8, 2012, which is three years after the date states are required to develop state-specific training requirements.

After August 8, 2012, states must require operators be trained as follows:

• Class A and B operators must be trained within 30 days or another reasonable period specified by the state, after assuming operation and maintenance responsibilities at the underground storage tank system.

• Class C operators must be trained before assuming responsibility for responding to emergencies.

States must require Class A and Class B operators, as appropriate, to repeat relevant state-specific training requirements if their underground storage tank systems are determined by the state to be out of compliance. At a minimum, an underground storage tank system is out of compliance if the system:

• Does not meet EPA's Significant Operational Compliance requirements for release prevention and release detection measures identified at: http://www.epa.gov/oust/cmplastc/soc.htm; or

• Is not in significant compliance with other requirements, such as financial responsibility, as determined by the state.

Operators must be retrained within a reasonable time frame established by the state. At a minimum, retraining must include training of the areas determined not in significant compliance.

What Training Approaches Would Meet the Operator Training Requirements?

Operator training must evaluate operator knowledge of the minimum training requirements described for each class of operator in these guidelines.

The following is a list of acceptable approaches to meet training requirements stated in these guidelines:

• An operator training program conducted or developed by the state or by a third party that has received prior state ¹ approval. The program may also include in-class, online, or hands-on training. Such a program must include an evaluation of operator knowledge. Examples include testing, practical demonstration, or other tools determined as acceptable by the state.

¹ States may formally or informally establish criteria they deem appropriate to determine the suitability of any training provider or curriculum of training courses provided.

• An appropriately administered and evaluated verification of operator knowledge (i.e., examination). This determination must be accomplished through an operator examination designed to measure all aspects of operator knowledge required in these guidelines. The state or a third party acceptable to the state may administer this examination. The examination process must be acceptable to the state and reasonably determine the person tested has the necessary knowledge and skills to be considered competent to operate underground storage tanks.

• For Class C operator training, the state may accept training conducted by a trained Class A or Class B operator at the facility.

• Any combination of the above listed operator training approaches or equivalent training approaches recognized by the state.

What Enforcement Authority Must States Have for Operator Training?

At a minimum, states must have enforcement authorities for their operator training requirements comparable to those for current underground storage tank requirements.

How Will States Demonstrate Compliance With These Guidelines?

After August 8, 2009, and before receiving future grant funding, states must provide one of the following to EPA:

• For a state that has met the requirements for operator training, the state must submit a certification indicating that the state meets the requirements in the guidelines.

• For a state that has not yet met the requirements for operator training, the state must provide a document that describes the state's efforts to meet the requirements. This document must include:

• A description of the state's activities to date to meet the requirements in the guidelines;

• A description of the state's planned activities to meet the requirements; and

• The date by which the state expects to meet the requirements.

EPA may verify state certifications of compliance through site visits, record reviews, or audits as authorized by 40 CFR part 31.

How Will EPA Enforce State's Compliance With the Requirements in These Guidelines?

As a matter of law, each state that receives funding under Subtitle I, which would include a Leaking Underground Storage Tank (LUST) Cooperative Agreement, must comply with certain underground storage tank requirements of Subtitle I. EPA anticipates State and Tribal Assistance Grants (STAG) funds will be available for inspection and other underground storage tank compliance activities. EPA will also condition STAG grants with compliance with these guidelines. Absent a compelling reason to the contrary, EPA expects to address noncompliance with these STAG grant conditions by utilizing EPA's grant enforcement authorities under 40 CFR 31.43, as necessary and appropriate.

For More Information About the Operator Training Grant Guidelines

Visit the EPA Office of Underground Storage Tanks Web site at http://www.epa.gov/oust or call 703-603-9900.

Background About the Energy Policy Act of 2005

On August 8, 2005, President Bush signed the Energy Policy Act of 2005. Title XV, Subtitle B of this act (titled the Underground Storage Tank Compliance Act) contains amendments to Subtitle I of the Solid Waste Disposal Act—the original legislation that created the underground storage tank (UST) program. These amendments significantly affect federal and state underground storage tank programs, will require major changes to the programs, and are aimed at reducing underground storage tank releases to our environment.

The amendments focus on preventing releases. Among other things, they expand eligible uses of the Leaking Underground Storage Tank (LUST) Trust Fund and include provisions regarding inspections, operator training, delivery prohibition, secondary containment and financial responsibility, and cleanup of releases that contain oxygenated fuel additives.

Some of these provisions require implementation by August 2006; others will require implementation in subsequent years. To implement the new law, EPA and states will work closely with tribes, other federal agencies, tank owners and operators, and other stakeholders to bring about the mandated changes affecting underground storage tank facilities.

To see the full text of this new legislation and for more information about EPA's work to implement the underground storage tank provisions of the law, see: http://www.epa.gov/oust/fedlaws/nrg05_01.htm.

Appendix A: The Three Operator Classes at a Glance

Dated: April 2, 2007.
Susan Parker Bodine,
Assistant Administrator, Office of Solid Waste and Emergency Response.

[FR Doc. E7-6616 Filed 4-9-07; 8:45 am]

BILLING CODE 6560-50-P